DEPARTMENT OF HEALTH AND HUMAN SERVICES

Meeting of the Presidential Advisory Council on HIV/AIDS

AGENCY: Office of the Assistant Secretary for Health, Office of the Secretary, Department of Health and Human Services.

ACTION: Notice.

SUMMARY: As stipulated by the Federal Advisory Committee Act, the U.S. Department of Health and Human Service (DHHS) is hereby giving notice that the Presidential Advisory Council on HIV/AIDS (PACHA) will hold a meeting to discuss the Ryan White Program. The meeting will be open to the public.

DATES: The meeting will be held on September 18-19, 2013 from 9:00 a.m. to approximately 5:30 p.m. (EDT).

ADDRESSES: U.S. Department of Health and Human Services, 200 Independence Avenue SW., Washington, DC 20201.

FOR FURTHER INFORMATION CONTACT: Ms. Caroline Talev, Public Health Analyst, Presidential Advisory Council on HIV/AIDS, Department of Health and Human Services, 200 Independence Avenue SW., Room 443H, Hubert H. Humphrey Building, Washington, DC 20201; phone: (202) 205-1178; email caroline.talev@hhs.gov. More detailed information about PACHA can be obtained by accessing the Council's Web site www.aids.gov/pacha.

SUPPLEMENTARY INFORMATION: PACHA was established by Executive Order 12963, dated June 14, 1995, as amended by Executive Order 13009, dated June 14, 1996. The Council was established to provide advice, information, and recommendations to the Secretary regarding programs and policies intended to promote effective prevention and cure of HIV disease and AIDS. The functions of the Council are solely advisory in nature.

The Council consists of not more than 25 members. Council members are selected from prominent community leaders with particular expertise in, or knowledge of, matters concerning HIV and AIDS, public health, global health, philanthropy, marketing or business, as well as other national leaders held in high esteem from other sectors of society. Council members are appointed by the Secretary or designee, in consultation with the White House Office on National AIDS Policy. The agenda for the upcoming meeting will be posted on the Council's Web site at www.aids.gov/pacha.

Public attendance at the meeting is limited to space available. Individuals who plan to attend and need special assistance, such as sign language interpretation or other reasonable accommodations, should notify the designated contact person. Due to space constraints, pre-registration for public attendance is advisable and can be accomplished by contacting Caroline Talev at caroline.talev@hhs.gov by Wednesday, September 11, 2013. Members of the public will have the opportunity to provide comments at the meeting. Any individual who wishes to participate in the public comment session must register with Caroline Talev at caroline.talev@hhs.gov; registration for public comment will not be accepted by telephone. Individuals who register to participate in the public comments session are encouraged to provide a hard copy of their comments to ensure accuracy of this information in the minutes developed for the meeting. The hard copy of the comments can be brought to the meeting and given to the designated PACHA staff member or sent in advance of the meeting to Caroline Talev at caroline.talev@hhs.gov. Public comment will be limited to two minutes per speaker. Any members of the public who wish to have printed material distributed to PACHA members at the meeting should submit, at a minimum, one copy of the materials to Caroline Talev, no later than close of business Wednesday, September 11, 2013.

Dated: July 24, 2013.
B. Kaye Hayes,
Executive Director, Presidential Advisory Council on HIV/AIDS.

[FR Doc. 2013-19644 Filed 8-13-13; 8:45 am]

BILLING CODE 4150-43-P